DEPARTMENT OF THE INTERIOR

National Park Service

National Register of Historic Places; Notification of Pending Relocation of Listed Property 2280-665

Pursuant to section 60.14 of 36 CFR part 60, comments are being accepted on the following properties listed on the National Register of Historic Places that are being considered for relocation. Comments may be forwarded by United States Postal Service, to the National Register of Historic Places, National Park Service, 1849 C St. NW., MS 2280, Washington, DC 20240; by all other carriers, National Register of Historic Places, National Park Service,1201 Eye St. NW., 8th floor, Washington DC 20005; or by fax, 202-371-6447. Written or faxed comments should be submitted by December 7, 2010.

Before including your address, phone number, e-mail address, or other personal identifying information in your comment, you should be aware that your entire comment—including your personal identifying information—may be made publicly available at any time. While you can ask us in your comment to withhold your personal identifying information from public review, we cannot guarantee that we will be able to do so.

Alexandra Lord,
Acting Chief, National Register of Historic Places/National Historic Landmarks Program.

Request for RELOCATION has been made for the following resources:

MISSISSIPPI

Harrison County

Quarles, W.J., House and Cottage, 120 and 122 E Railroad St., Long Beach, 80002244

ALASKA

Skagway-Hoonah-Angoon

Windfall Harbor CCC Shelter Cabin, Admiralty Island National Monument, Angoon, 95001299

[FR Doc. 2010-29286 Filed 11-19-10; 8:45 am]

BILLING CODE 4312-51-P